NATIONAL CREDIT UNION ADMINISTRATION

Sunshine Act: Notice of a Matter To Be Added to the Agenda for Consideration at an Agency Meeting

FEDERAL REGISTER CITATION OF PREVIOUS ANNOUNCEMENT: December 10, 2018 (83 FR 63540).

TIME AND DATE: 10:00 a.m., Thursday, December 13, 2018.

PLACE: Board Room, 7th Floor, Room 7047, 1775 Duke Street, Alexandria, VA 22314-3428.

STATUS: Open.

Pursuant to the provisions of the “Government in Sunshine Act” notice is hereby given that the NCUA Board gave notice on December 6, 2018 of the open meeting of the NCUA Board scheduled for December 13, 2018. Prior to the meeting, on December 13, 2018, the NCUA Board unanimously determined that agency business required the addition of a fourth item on the agenda with less than seven days' notice to the public, and that no earlier notice of the addition was possible.

MATTER TO BE ADDED: 4. 2019 Share Insurance Fund Normal Operating Level.

FOR FURTHER INFORMATION CONTACT: Gerard Poliquin, Secretary of the Board, Telephone: 703-518-6304.

Gerard Poliquin,
Secretary of the Board.

[FR Doc. 2018-27355 Filed 12-13-18; 4:15 pm]

BILLING CODE 7535-01-P